DEPARTMENT OF THE INTERIOR

National Park Service

[NPS-WASO-NRNHL-19936; PPWOCRADI0, PCU00RP14.R50000]

National Register of Historic Places; Notification of Pending Nominations and Related Actions

AGENCY: National Park Service, Interior.

ACTION: Notice.

SUMMARY: The National Park Service is soliciting comments on the significance of properties nominated before December 5, 2015, for listing or related actions in the National Register of Historic Places.

DATES: Comments should be submitted by January 19, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before December 5, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Jefferson County

Pinson Hills Historic District, Roughly Cedar, Church, Main, Mountain, Pinson & Walnut Sts., Pinewood & Leslie Drs., Center Point & Silver Lake Rds., Pinson, 15000975

Pinson Main Street Historic District, Roughly Clayton, Lane, Main & Spring Sts., Elm & Powell Aves., Marvin's Way, Old Bradford Rd. & Pinson Plz., Pinson, 15000976

DELAWARE

New Castle County

Grantham—Edwards—McComb House, 217 Park Ave., New Castle, 15000977

DISTRICT OF COLUMBIA

District of Columbia

Lexington, The, (Apartment Buildings in Washington, DC, MPS) 1114 F St. NE., Washington, 15000978

ILLINOIS

Johnson County

Dupont, John, House, 130 W. 5th St., New Burnside, 15000979

MASSACHUSETTS

Bristol County

Berkley Common Historic District, N. Main, S. Main, Porter & Locust Sts., Berkley, 15000980

Middlesex County

Six Moon Hill Historic District, (Mid-Century Modern Houses of Lexington, Massachusetts MPS) 4, 8 Bird Hill & 1-40 Moon Hill Rds, 16, 24 Swan Ln., Lexington, 15000981

MINNESOTA

Waseca County

Hoffman Apiaries, 4661 420th Ave., Janesville, 15000982

MISSISSIPPI

Copiah County

Brewer Place, (Copiah County MPS) 3101 Utica Rd., Crystal Springs, 15000983

Georgetown Methodist Church, (Copiah County MPS) 1002 Lane Ave., Georgetown, 15000984

Hancock County

House at 5098 MS 604, 5098 MS 604, Pearlington, 15000985

Harrison County

Central Gulfport Historic District, Roughly bounded by 24th & 17th Sts., 18th & 23rd Aves., Gulfport, 15000986

Second Street Historic District, Along 2nd St., Gulfport, 15000987

Holmes County

Durant Illinois Central Railroad Depot, 436 E. Mulberry St., Durant, 15000988

WISCONSIN

Winnebago County

Equitable Fraternal Union Building, 116 S. Commercial St., Neenah, 15000989

Authority: 60.13 of 36 CFR part 60

Dated: December 8, 2015.
J. Paul Loether,
Chief, National Register of Historic Places/National Historic Landmarks Program.

[FR Doc. 2015-32999 Filed 12-31-15; 8:45 am]

BILLING CODE 4312-51-P